INTERNATIONAL TRADE COMMISSION

[USITC SE-07-021]

Government in the Sunshine Act Meeting Notice

Agency Holding the Meeting: United States International Trade Commission.

Time and Date: November 2, 2007 at 11 a.m.

Place: Room 101, 500 E Street, SW., Washington, DC 20436, Telephone: (202) 205-2000.

Status: Open to the public.

Matters To Be Considered: 1. Agenda for future meetings: none.

2. Minutes.

3. Ratification List.

4. Inv. Nos. 701-TA-452 and 731-TA-1129-1130 (Preliminary) (Raw Flexible Magnets from China and Taiwan)—briefing and vote. (The Commission is currently scheduled to transmit its determinations to the Secretary of Commerce on or before November 5, 2007; Commissioners' opinions are currently scheduled to be transmitted to the Secretary of Commerce on or before November 13, 2007.)

5. Outstanding action jackets: none.

In accordance with Commission policy, subject matter listed above, not disposed of at the scheduled meeting, may be carried over to the agenda of the following meeting.

Issued: October 25, 2007.
By order of the Commission.
William R. Bishop,
Hearings and Meetings Coordinator.

[FR Doc. E7-21286 Filed 10-26-07; 8:45 am]

BILLING CODE 7020-02-P